DEPARTMENT OF HOUSING AND URBAN DEVELOPMENT

[Docket No. FR-4565-N-07]

Notice of Proposed Information Collection: Comment Request; Rent Schedule—Low Rent Housing

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: April 24, 2000.

ADDRESSES: Interested persons are invited to submit comments regarding this proposal. Comments should refer to the proposal by name and/or OMB Control Number and should be sent to: Wayne Eddins, Reports Management Officer, Department of Housing and Urban Development, 451 7th Street, SW, L'Enfant Building, Room 8202, Washington, D.C. 20410, telephone (202) 708-5221 (this is not a toll-free number) for copies of the proposed forms and other available information.

FOR FURTHER INFORMATION CONTACT: Willie Spearmon, Multifamily Housing, Office of Business Products, Department of Housing and Urban Development, 451 7th Street SW, Washington, DC 20410, telephone number (202) 708-2866 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Rent Schedule Low Rent Housing.

OMB Control Number, if applicable: 2502-0012.

Description of the need for the information and proposed use: Certain Federal statutes and regulations require the Department to review rents and/or charges for all projects either insured or held by HUD, except for specified unsubsidized projects. These regulations also require the Department's approval of all principals in HUD insured and financed projects. Form HUD-92458 serves both of these purposes by documenting rents and charges that the Department approves and by requiring owners to provide a current listing of their projects' principals.

Agency form numbers, if applicable: HUD-92458.

Estimation of the total numbers of hours needed to prepare the information collection including number of respondents, frequency of response, and hours of response: The estimated number of respondents are 16,000, the frequency of responses is one, the estimated hours per response is .33 hours per response, and the estimated annual hour burden is 5,280.

Status of the proposed information collection: Reinstatement without change.

Authority: The Paperwork Reduction Act of 1995, 44 U.S.C., Chapter 35, as amended.

Dated: February 14, 2000.
William C. Apgar,
Assistant Secretary for Housing, Federal-Housing Commissioner.

[FR Doc. 00-4317 Filed 2-23-00; 8:45 am]

BILLING CODE 4210-27-M